DEPARTMENT OF HOMELAND SECURITY

Federal Emergency Management Agency

[Docket ID: FEMA-2016-0016; OMB No. 1660-0134]

Agency Information Collection Activities: Proposed Collection; Comment Request; America's PrepareAthon! National Day of Action Event Registration

AGENCY: Federal Emergency Management Agency, DHS.

ACTION: Notice.

SUMMARY: The Federal Emergency Management Agency, as part of its continuing effort to reduce paperwork and respondent burden, invites the general public and other Federal agencies to take this opportunity to comment on a revision of a currently approved information collection. In accordance with the Paperwork Reduction Act of 1995, this notice seeks comments concerning the registration for events in support of America's PrepareAthon! National Day of Action. This is part of a FEMA effort to coordinate a comprehensive campaign to build and sustain national preparedness, including public outreach and community-based and private-sector programs to enhance national resilience.

DATES: Comments must be submitted on or before September 12, 2016.

ADDRESSES: To avoid duplicate submissions to the docket, please use only one of the following means to submit comments:

(1) Online. Submit comments at www.regulations.gov under Docket ID FEMA-2016-0016. Follow the instructions for submitting comments.

(2) Mail. Submit written comments to Docket Manager, Office of Chief Counsel, DHS/FEMA, 500 C Street SW., 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Samuel Hultzman, IT Program Manager, DHS/FEMA, Individual and Community Preparedness, (202) 746-9090. You may contact the Records Management Division for copies of the proposed collection of information at email address: FEMA-Information-Collections-Management@fema.dhs.gov.

SUPPLEMENTARY INFORMATION: As part of 6 U.S.C. 742 and Presidential Policy Directive 8 (PPD-8): National Preparedness, the President tasked the Secretary of Homeland Security to:

coordinate a comprehensive campaign to build and sustain national preparedness, including public outreach and community-based and private-sector programs to enhance national resilience.

The Federal Emergency Management Agency (FEMA) intends to conduct one (or more) National Day of Action, coordinated nationally by FEMA. Schools, businesses, faith-based organizations, governments at all levels, other community organizations, and families will participate in this National Day of Action by voluntarily taking part in a simultaneous multi-hazard drill and public education effort. These entities taking part in the National Day of Action register their planned events through this information collection effort. This collection was previously titled, Community Drill Day Registration and was OMB Control Number: 1660-NW79. It is now OMB Control Number 1660-0134.

Collection of Information

Title: America's PrepareAthon! National Day of Action Event Registration.

Type of Information Collection: Revision of a currently approved information collection.

OMB Number: 1660-0134.

FEMA Forms: FEMA Form 008-0-8, America's PrepareAthon! National Day of Action Registration.

Abstract: As part of 6 U.S.C. 742 and Presidential Policy Directive 8 (PPD-8): National Preparedness, the President tasked the Secretary of Homeland Security to:

coordinate a comprehensive campaign to build and sustain national preparedness, including public outreach and community-based and private-sector programs to enhance national resilience.

These entities taking part in the National Day of Action register their planned events through this information collection effort.

Affected Public: Individuals or households; Farms; Business or other for-profit; Federal Government; Not-for-profit institutions; State, local or Tribal Government.

Number of Respondents: 50,000.

Number of Responses: 50,000.

Estimated Total Annual Burden Hours: 15,000 hours.

Estimated Cost: The estimated annual cost to respondents for the hour burden is $487,830. There are no annual costs to respondents' operations and maintenance costs for technical services. There are no annual start-up or capital costs. The cost to the Federal Government is $332,361.86.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: July 6, 2016.
Richard W. Mattison,
Records Management Program Chief, Mission Support, Federal Emergency Management Agency, Department of Homeland Security.

[FR Doc. 2016-16436 Filed 7-11-16; 8:45 am]

BILLING CODE 9111-27-P